ENVIRONMENTAL PROTECTION AGENCY

[EPA-HQ-OPP-2006-0005; FRL-7757-5]

Pennsylvania and Virginia State Plans for Certification of Applicators of Restricted Use Pesticides; Notice of Approval

AGENCY: Environmental Protection Agency (EPA).

ACTION: Notice.

SUMMARY: In the Federal Register of October 28, 2005, EPA issued a notice of intent to approve amended Pennsylvania and Virginia Plans for the certification of applicators of restricted use pesticides. In this notice EPA solicited comments from the public on the proposed action to approve the amended Pennsylvania and Virginia Plans. The amended Certification Plans Pennsylvania and Virginia submitted to EPA contained several statutory, regulatory, and programmatic changes to their current Certification Plans. The proposed amendments establish new commercial categories for vertebrate pest control. One public comment was received that had no specific information relevant to the issues presented; therefore, no changes were made based on this comment. EPA hereby approves the amended Pennsylvania and Virginia Plans.

ADDRESSES: The amended Pennsylvania and Virginia Certification Plans can be reviewed at the locations listed under Unit I.B. of the SUPPLEMENTARY INFORMATION.

FOR FURTHER INFORMATION CONTACT: Fabiola Estrada, USEPA Region III, Pesticide/Asbestos Programs and Enforcement Branch (3WC32), 1650 Arch St., Philadelphia, PA 19103-2029; telephone number: (215) 814-2171; e-mail address: estrada.fabiola@epa.gov.

SUPPLEMENTARY INFORMATION:

I. General Information

A. Does this Action Apply to Me?

This action is directed to the public in general. This action may, however, be of interest to those involved in agriculture and anyone involved with the distribution and application of pesticides for agricultural purposes. Others involved with pesticides in a non-agricultural setting may also be affected. In addition, it may be of interest to others, such as, those persons who are or may be required to conduct testing of chemical substances under the Federal Food, Drug, and Cosmetic Act (FFDCA), or the Federal Insecticide, Fungicide, and Rodenticide Act (FIFRA). Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number EPA-HQ-OPP-2005-0247. Publicly available docket materials are available either electronically in www.regulations.gov or in hard copy at the Public Information and Records Integrity Branch (PIRIB) (7502C), Office of Pesticide Programs (OPP), Environmental Protection Agency, Rm. 119, Crystal Mall #2, 1801 S. Bell St., Arlington, VA. The docket facility is open from 8:30 a.m. to 4 p.m., Monday through Friday, excluding legal holidays. The telephone number for the docket facility is (703) 305-5805.

2. Electronic access. You may access this Federal Register document electronically through the EPA Internet under the “Federal Register” listings at http://www.epa.gov/fedrgstr/.

In addition to the sources listed in this unit, you may obtain copies of the amended Pennsylvania and Virginia Certification Plans, other related documents, or additional information by contacting:

1. Fabiola Estrada at the address listed under FOR FURTHER INFORMATION CONTACT.

2. David Scott, Bureau of Plant Industry, Pennsylvania Department of Agriculture, 2301 North Cameron St., Harrisburg, PA 17110-9408; telephone number: (717) 772-5214; e-mail:dascott@state.pa.us.

3. Kathy Dictor, Virginia Department of Agriculture & Consumer Services, Office of Pesticide Services, 2221 Carbon Hill Drive, Midlothian, VA 23113; telephone number: (804) 786-0685; e-mail:kdictor@vdacs.state.va.us.

4. Michelle DeVaux, Field and External Affairs Division (7506C), Office of Pesticide Programs, Environmental Protection Agency, 1200 Pennsylvania Ave., NW., Washington, DC 20460-0001; telephone number: (703) 308-5891; e-mail address: devaux.michelle@epa.gov.

II. What Action is the Agency Taking?

EPA is approving the amended Pennsylvania and Virginia Certification Plans. This approval is based upon the EPA review of the Pennsylvania and Virginia Plans and finding them in compliance with FIFRA and 40 CFR part 171. Further, one public comment that had no specific information relevant to the issues presented was submitted to the Federal Register notice of October 28, 2005 (70 FR 62109) (FRL-7735-2), soliciting comments. No changes were made based on the comment received; therefore, the amended Pennsylvania and Virginia Certification Plans are approved.

List of Subjects

Environmental protection, Education, Pests and pesticides.

Dated: March 30, 2006.
William Early,
Acting Regional Administrator, Region III.

[FR Doc. E6-5326 Filed 4-10-06; 8:45 am]

BILLING CODE 6560-50-S